DEPARTMENT OF TRANSPORTATION

Pipeline and Hazardous Materials Safety Administration

Hazardous Materials: Notice of Applications for Modifications to Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before April 30, 2019.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov.

This notice of receipt of applications for special permit is published in accordance with part 107 of the Federal hazardous materials transportation law (49 U.S.C. 5117(b); 49 CFR 1.53(b)).

Issued in Washington, DC, on April 2, 2019.
Donald P. Burger,
Chief, General Approvals and Permits Branch.

Special Permits Data
Application No. | Applicant | Regulation(s) affected | Nature of the special permits thereof
7657-M | WELKER, INC | 173.201, 173.202, 173.203, 173.301(f)(2), 173.302a(a)(1), 173.304(a), 173.22a, 177.840(a)(1) | To modify the special permit to authorize additional Class 3 gases to be added to the permit. (modes 1,2,3,4).
10370-M | WELKER, INC | 173.201, 173.202, 173.203, 173.301(f)(2), 173.302a(a)(1), 173.304(a), 177.840(a)(1) | To modify the special permit to make editorial changes to bring it more in line with other special permits, i.e., 9657, 11054. (modes 1,4).
11054-M | WELKER, INC | 173.301(f)(2), 173.302a(a)(1), 173.304a(a)(1), 173.304a(d)(3)(i), 173.201(c), 173.202(c), 173.203(c), 177.840(a)(1) | To modify the special permit to authorize additional Class 3 and Division 2.2 gases. (modes 1,2,3,4).
12098-M | CARLETON TECHNOLOGIES, INC | 173.301(f), 173.302a(a)(1) | To modify the special permit to authorize a re-design of the cylinder due to a new welding procedure and to update the drawings on file with PHMSA. (modes 1,2,4).
14791-M | HELIQWEST INTERNATIONAL INC | 172.101(j), 172.200, 172.204(c)(3), 172.300, 173.27(b)(2), 175.30(a)(1) | To modify the special permit to authorize additional Class 9 hazmat and to clarify propane cylinder requirements. (modes 4).
15788-M | AMTROL-ALFA, METALOMECÂNICA, S.A | 173.302a(a), 173.304a(a), 178.71, 180.205, 180.207 | To modify the special permit to authorize hydrogen to be transported in the approved cylinders. (modes 1,2,3,4,5).
16461-M | CYLINDER SALES AND TESTING, LLC | 172.203(a), 172.301(c), 173.302a(b), 180.205 | To modify the special permit to remove the annual gain control accuracy test and replace it with a onetime check at manufacture. (modes 1,2,3,4,5).
16560-M | Lightstore, Inc | 173.302(a) | To modify the special permit to authorize additional Division 2.1 and 2.2 gas mixtures. (modes 1,2,3).
16563-M | CALL2RECYCLE, INC | 172.200, 172.300, 172.400, 172.600, 172.700(a), 173.185(f) | To modify the special permit to authorize an additional packaging for transporting the authorized hazmat. (modes 1,2,3).
20255-M | COVANTA ENVIRONMENTAL SOLUTIONS, LLC | Subchapter C | To modify the special permit to authorize air and vessel transportation. (modes 1,2,3,4).
20323-M | GENERAL DYNAMICS MISSION SYSTEMS, INC | 173.185(a)(1)(i) | To modify the special permit to authorize additional Class 9 hazmat (modes 4).
20602-M | THE BOEING COMPANY | 173.56(b), 173.62, 173.185(a), 173.185(b), 173.201, 173.302(a), 173.304(a), 177.848(d) | To modify the special permit to authorize any qualified carrier that is capable of transporting Dangerous Goods IAW 49CFR. (modes 1).
20801-M | WALMART INC | 172.315(a)(2) | To modify the special permit to remove the requirement that a copy of the special permit be presented to the air carrier before or at the time the shipment is tendered and the requirement that a copy of the special permit accompany each shipment. (modes 1,2).
20323-M | Cummins Inc | 172.101(j) | To modify the special permit to increase the authorized net weight to 75 kg. (mode 4).
20474-M | SPACE EXPLORATION TECHNOLOGIES CORP | 105.30, 172.300, 172.400 | To modify the special permit to only require a DANGEROUS placard when transporting the recovered Dragon 2 capsule. (mode 1).

[FR Doc. 2019-07343 Filed 4-12-19; 8:45 am]

BILLING CODE 4909-60-P